DEPARTMENT OF TRANSPORTATION

Federal Aviation Administration

14 CFR Part 39

[Docket No. FAA-2025-0742; Project Identifier MCAI-2024-00682-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2020-02-14, which applies to certain Airbus SAS Model A350-941 and -1041 airplanes. AD 2020-02-14 requires a one-time inspection of the oxygen containers and adjacent panels and applicable corrective actions. Since the FAA issued AD 2020-02-14, it was determined that additional airplanes may be affected by the same unsafe condition. This proposed AD would continue to require the actions in AD 2020-02-14 and would require expanding the applicability to include additional airplanes, as specified in a European Union Aviation Safety Agency (EASA) AD, which is proposed for incorporation by reference (IBR). The FAA is proposing this AD to address the unsafe condition on these products.

DATES: The FAA must receive comments on this proposed AD by June 13, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0742; or in person at Docket Operations between 9 a.m. and 5 p.m., Monday through Friday, except Federal holidays. The AD docket contains this NPRM, the mandatory continuing airworthiness information (MCAI), any comments received, and other information. The street address for Docket Operations is listed above.

Material Incorporated by Reference:

• For Airbus material identified in this AD, contact Airbus SAS, Airworthiness Office—EAL, Rond-Point Emile Dewoitine No: 2, 31700 Blagnac Cedex, France; telephone +33 5 61 93 36 96; fax +33 5 61 93 45 80; email continued-airworthiness.a350@airbus.com; website airbus.com.

• For EASA material identified in this proposed AD, contact EASA, Konrad-Adenauer-Ufer 3, 50668 Cologne, Germany; telephone +49 221 8999 000; email ADs@easa.europa.eu. You may find this material on the EASA website at ad.easa.europa.eu. It is also available at regulations.gov under Docket No. FAA-2025-0742.

• You may view this material at the FAA, Airworthiness Products Section, Operational Safety Branch, 2200 South 216th St., Des Moines, WA. For information on the availability of this material at the FAA, call 206-231-3195.

FOR FURTHER INFORMATION CONTACT: Nicole Tsang, Aviation Safety Engineer, FAA, 2200 South 216th St., Des Moines, WA 98198; phone: 206-231-3959; email: Nicole.S.Tsang@faa.gov.

SUPPLEMENTARY INFORMATION:

Comments Invited

The FAA invites you to send any written relevant data, views, or arguments about this proposal. Send your comments to an address listed under the ADDRESSES section. Include “Docket No. FAA-2025-0742; Project Identifier MCAI-2024-00682-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Nicole Tsang, Aviation Safety Engineer, FAA, 2200 South 216th St., Des Moines, WA 98198; phone: 206-231-3959; email: Nicole.S.Tsang@faa.gov. Any commentary that the FAA receives which is not specifically designated as CBI will be placed in the public docket for this rulemaking.

Background

The FAA issued AD 2020-02-14, Amendment 39-19828 (85 FR 6757, February 6, 2020) (AD 2020-02-14), for certain Airbus SAS Model A350-941 and -1041 airplanes. AD 2020-02-14 was prompted by an MCAI originated by EASA, which is the Technical Agent for the Member States of the European Union. EASA issued AD 2019-0210, dated August 26, 2019 (EASA AD 2019-0210), to correct an unsafe condition.

AD 2020-02-14 requires a one-time inspection of the oxygen containers and adjacent panels, and applicable corrective actions. The FAA issued AD 2020-02-14 to address damaged and unlocked fasteners of the oxygen containers and adjacent panels in the passenger supply channels (PSCs), which could result in insufficient clearance between the oxygen container and adjacent panels and prevent the opening of the oxygen containers, and consequent failure of the oxygen masks to deploy and provide supplemental oxygen in case of an in-flight decompression, possibly resulting in injury to cabin occupants.

Actions Since AD 2020-02-14 Was Issued

Since the FAA issued AD 2020-02-14, EASA superseded EASA AD 2019-0210 and issued EASA AD 2024-0220, dated November 20, 2024 (EASA AD 2024-0220) (also referred to as the MCAI), to correct an unsafe condition for certain Airbus SAS Model A350-941 and -1041 airplanes. The MCAI states that since EASA AD 2019-0210 was issued, it was determined that additional A350 manufacturer serial numbers (airplanes) may be affected by the same unsafe condition.

The FAA is proposing this AD to address the unsafe condition on these products. You may examine the MCAI in the AD docket at regulations.gov under Docket No. FAA-2025-0742.

Explanation of Retained Requirements

Although this proposed AD does not explicitly restate the requirements of AD 2020-02-14, this proposed AD would retain all of the requirements of AD 2020-02-14. Those requirements are referenced in EASA AD 2024-0220, which, in turn, is referenced in paragraph (g) of this proposed AD.

Material Incorporated by Reference Under 1 CFR Part 51

EASA AD 2024-0220 specifies procedures for inspecting the oxygen containers and the installation of adjacent panels located in all PSCs, to check that each fastener of each panel/component is locked and to measure the clearance between the oxygen container door lid and the adjacent panel/component. EASA AD 2024-0220 also describes procedures for applicable corrective actions, including attaining minimum clearance, locking any unlocked fasteners, and replacing damaged parts.

The FAA reviewed Airbus Alert Operators Transmission (AOT) A35P015-19, Revision 01, dated June 19, 2019. This material identifies affected airplanes for the Group 1 airplanes specified in EASA AD 2024-0220.

The FAA also reviewed Airbus AOT A35P023-24, Revision 01, dated July 25, 2024. This material identifies affected airplanes for the Group 2 airplanes specified in EASA AD 2024-0220.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would require accomplishing the actions specified in EASA AD 2024-0220 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0220 by reference in the FAA final rule. This proposed AD would, therefore, require compliance with EASA AD 2024-0220 in its entirety through that incorporation, except for any differences identified as exceptions in the regulatory text of this proposed AD. Using common terms that are the same as the heading of a particular section in EASA AD 2024-0220 does not mean that operators need comply only with that section. For example, where the AD requirement refers to “all required actions and compliance times,” compliance with this AD requirement is not limited to the section titled “Required Action(s) and Compliance Time(s)” in EASA AD 2024-0220. Material required by EASA AD 2024-0220 for compliance will be available at regulations.gov under Docket No. FAA-2025-0742 after the FAA final rule is published.

Costs of Compliance

The FAA estimates that this AD, if adopted as proposed, would affect 19 airplanes of U.S. registry. The FAA estimates the following costs to comply with this proposed AD:

Estimated Costs for Required Actions
Action | Labor cost | Parts cost | Cost per product | Cost on U.S. operators
Retained actions from AD 2020-02-14 | 4 work-hours × $85 per hour = $340 | $0 | $340 | $5,440 (16 airplanes).
New proposed actions | 4 work-hours × $85 per hour = $340 | 0 | 340 | 1,020 (3 airplanes).

Estimated Costs of On-Condition Actions
Labor cost | Parts cost | Cost per product
1 work-hour × $85 per hour = $85 | * $0 | $85
* The FAA has received no definitive data on the parts costs for the on-condition actions.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-02-14, Amendment 39-19828 (85 FR 6757, February 6, 2020); and

b. Adding the following new AD:

Airbus SAS: Docket No. FAA-2025-0742; Project Identifier MCAI-2024-00682-T.

(a) Comments Due Date

The FAA must receive comments on this airworthiness directive (AD) by June 13, 2025.

(b) Affected ADs

This AD replaces AD 2020-02-14, Amendment 39-19828 (85 FR 6757, February 6, 2020) (AD 2020-02-14).

(c) Applicability

This AD applies to Airbus SAS Model A350-941 and -1041 airplanes, certificated in any category, having manufacturer serial numbers listed in Airbus Alert Operators Transmission (AOT) A35P015-19, Revision 01, dated June 19, 2019; and Airbus AOT A35P023-24, Revision 01, dated July 25, 2024.

(d) Subject

Air Transport Association (ATA) of America Code 35, Oxygen.

(e) Unsafe Condition

This AD was prompted by a report that during inspection of the installation of oxygen containers, certain fasteners of the oxygen containers and adjacent panels in the passenger supply channels (PSCs) were found damaged or unlocked; which could result in insufficient clearance between the oxygen container and adjacent panels. This AD was also prompted by a determination that additional airplanes may be affected by the same unsafe condition. The FAA is issuing this AD to address damaged and unlocked fasteners of the oxygen containers and adjacent panels in the PSCs, which could result in insufficient clearance between the oxygen container and adjacent panels. The unsafe condition, if not addressed, could prevent the opening of the oxygen containers and result in failure of oxygen masks to deploy and provide supplemental oxygen supply in case of an in-flight decompression, possibly resulting in injury to cabin occupants.

(f) Compliance

Comply with this AD within the compliance times specified, unless already done.

(g) Requirements

Except as specified in paragraphs (h) and (i) of this AD: Comply with all required actions and compliance times specified in, and in accordance with, European Union Aviation Safety Agency (EASA) AD 2024-0220, dated November 20, 2024 (EASA AD 2024-0220).

(h) Exceptions to EASA AD 2024-0220

(1) Where EASA AD 2024-0220 refers to “September 9, 2019 [the effective date of EASA AD 2019-0210],” this AD requires using March 12, 2020 (the effective date of AD 2020-02-14).

(2) Where EASA AD 2024-0220 refers to its effective date, this AD requires using the effective date of this AD.

(3) Where the “Groups” definition in EASA AD 2024-0220 specifies “Group 1 aeroplanes are those having an MSN as listed in the AOT1” this AD requires replacing that text with “Group 1 airplanes are those having an MSN as listed in Airbus AOT A35P015-19, Revision 01, dated June 19, 2019.”

(4) Where the “Groups” definition in EASA AD 2024-0220 specifies “Group 2 aeroplanes are those having an MSN as listed in the AOT2” this AD requires replacing that text with “Group 2 airplanes are those having an MSN as listed in Airbus AOT A35P023-24, Revision 01, dated July 25, 2024.”

(5) This AD does not adopt the “Remarks” section of EASA AD 2024-0220.

(i) No Reporting Requirement

Although the material referenced in EASA AD 2024-0220 specifies to submit certain information to the manufacturer, this AD does not include that requirement.

(j) Additional AD Provisions

The following provisions also apply to this AD:

(1) Alternative Methods of Compliance (AMOCs): The Manager AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(k) Additional Information

For more information about this AD, contact Nicole Tsang, Aviation Safety Engineer, FAA, 2200 South 216th St., Des Moines, WA 98198; phone: 206-231-3959; email: Nicole.S.Tsang@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Airbus Alert Operators Transmission (AOT) A35P015-19, Revision 01, dated June 19, 2019.

(ii) Airbus AOT A35P023-24, Revision 01, dated July 25, 2024.

(iii) European Union Aviation Safety Agency (EASA) AD 2024-0220, dated November 20, 2024.

(3) For Airbus material identified in this AD, contact Airbus SAS, Airworthiness Office—EAL, Rond-Point Emile Dewoitine No: 2, 31700 Blagnac Cedex, France; telephone +33 5 61 93 36 96; fax +33 5 61 93 45 80; email continued-airworthiness.a350@airbus.com; website airbus.com.

(4) For EASA material identified in this AD, contact EASA, Konrad-Adenauer-Ufer 3, 50668 Cologne, Germany; telephone +49 221 8999 000; email ADs@easa.europa.eu. You may find this material on the EASA website at ad.easa.europa.eu.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on April 22, 2025.
Peter A. White,
Deputy Director, Integrated Certificate Management Division, Aircraft Certification Service.

[FR Doc. 2025-07269 Filed 4-28-25; 8:45 am]

BILLING CODE 4910-13-P